DEPARTMENT OF HEALTH AND HUMAN SERVICES

Administration for Children and Families

Submission for OMB Review; Runaway and Homeless Youth Homeless Management Information System (RHY-HMIS; New Collection)

AGENCY: Family and Youth Services Bureau (FYSB); Administration on Children, Youth and Families (ACYF); Administration for Children and Families; HHS.

ACTION: Request for Public Comment.

SUMMARY: The Administration on Children, Youth and Families (ACYF), Family and Youth Services Bureau has a legislative requirement to collect and maintain client statistical records on the numbers and the characteristics of runaway and homeless youth, and youth at risk of family separation, who receive shelter and supportive services through the Runaway and Homeless Youth (RHY) Program funding. RHY data collection is integrated with the U.S. Department of Housing and Urban Development's (HUD) Homeless Management Information System (HMIS).

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The RHY Program has a requirement to collect information from all youth who receive shelter and supportive services with RHY funding. In April 2015, ACYF, through a formal Memorandum of Understanding, integrated the RHY data collection with HUD's HMIS and HUD's data standards along with other federal partners. HUD's data standards has its own OMB clearance, but ACYF is requesting approval for the RHY data collection efforts as HUD's will no longer include all federal partners. The data collection instrument includes universal data elements, which are collected by all federal partners and program specific elements, which are tailored to each program using HUD's HMIS.

Respondents: Youth who receive emergency and longer-term shelter and supportive services under RHY funding. RHY grantees who enter and upload data.

Annual Burden Estimates
Instrument | Total number of respondents | Total number of responses per respondent | Average burden hours per response | Total burden hours | Annual burden hours
RHY-HMIS: Basic Center Program (Intake) | 123,000 | 1 | 0.38 | 46,740 | 15,580
RHY-HMIS: Basic Center Program (Exit) | 123,000 | 1 | 0.33 | 40,590 | 13,530
RHY-HMIS: Transitional Living Program (including Maternity Group Home program and TLP Demonstration Programs; Intake) | 18,000 | 1 | 0.38 | 6,840 | 2,280
RHY-HMIS: Transitional Living Program (including Maternity Group Home program and TLP Demonstration Programs; Exit) | 18,000 | 1 | 0.33 | 5,940 | 1,980
RHY-HMIS: Street Outreach Program (Contact) | 108,000 | 1 | 0.5 | 54,000 | 18,000
RHY-HMIS: Street Outreach Program (Engagement) | 30,000 | 1 | 0.28 | 8,400 | 2,800
RHY Funded Grantees (data entry) | 279,000 | 2 | 0.36 | 200,880 | 66,960
RHY Funded Grantees (data submission)—FY21 | 611 | 2 | 0.16 | 196 | 65
RHY Funded Grantees (data submission)—FY22 & FY23 | 611 | 8 | 0.16 | 782 | 261

Estimated Total Annual Burden Hours: 121,456.

Authority: Reconnecting Homeless Youth Act of 2008 (Pub.L. 110-378) through FY 2013 and more recently reauthorized by the Juvenile Justice Reform Act through FY 2019.

Mary B. Jones,
ACF/OPRE Certifying Officer.

[FR Doc. 2021-05876 Filed 3-19-21; 8:45 am]

BILLING CODE 4184-33-P